DEPARTMENT OF STATE

[Public Notice: 10239]

60-Day Notice of Proposed Information Collection: Six DDTC Information Collections

ACTION: Notice of request for public comments.

SUMMARY: The Department of State is seeking Office of Management and Budget (OMB) approval for the information collections described below. In accordance with the Paperwork Reduction Act of 1995, we are requesting comments on these collections from all interested individuals and organizations. The purpose of this notice is to allow 60 days for public comment preceding submission of the collections to OMB.

DATES: The Department will accept comments from the public up to April 27, 2018.

ADDRESSES: You may submit comments by any of the following methods:

• Web: Persons with access to the internet may comment on this notice by going to www.Regulations.gov. You can search for the document by entering “Docket Number: DOS-2017-0047” in the Search field. Then click the “Comment Now” button and complete the comment form.

• Email: DDTCPublicComments@state.gov.

• Regular Mail: Send written comments to: Andrea Battista, SA-1, 12th Floor, Directorate of Defense Trade Controls, Bureau of Political Military Affairs, U.S. Department of State, Washington, DC 20522-0112.

You must include the DS form number (if applicable), information collection title, and the OMB control number in any correspondence.

FOR FURTHER INFORMATION CONTACT: Direct requests for additional information regarding the collection listed in this notice, including requests for copies of the proposed collection instrument and supporting documents, to Andrea Battista, SA-1, 12th Floor, Directorate of Defense Trade Controls, Bureau of Political Military Affairs, U.S. Department of State, Washington, DC 20522-0112, via phone at (202) 663-3136, or via email at battistaal@state.gov.

SUPPLEMENTARY INFORMATION:

• Title of Information Collection: Application/License for Permanent Export of Unclassified Defense Articles and Related Unclassified Technical Data.

• OMB Control Number: 1405-0003.

• Type of Request: Extension of a Currently Approved Collection.

• Originating Office: Bureau of Political-Military Affairs, Directorate of Defense Trade Controls, PM/DDTC.

• Form Number: DSP-5.

• Respondents: Business, Nonprofit Organizations, and Individuals.

• Estimated Number of Respondents: 1,405.

• Estimated Number of Responses: 26,253.

• Average Time per Response: 1 hour.

• Total Estimated Burden Time: 26,253 hours.

• Frequency: On Occasion.

• Obligation To Respond: Required to Obtain or Retain a Benefit.

• Title of Information Collection: Application/License for Temporary Import of Unclassified Defense Articles.

• OMB Control Number: 1405-0013.

• Type of Request: Extension of Currently Approved Collection.

• Originating Office: Bureau of Political-Military Affairs, Directorate of Defense Trade Controls, PM/DDTC.

• Form Number: DSP-61.

• Respondents: Business, Nonprofit Organizations, and Individuals.

• Estimated Number of Respondents: 204.

• Estimated Number of Responses: 1,103.

• Average Time per Response: 30 minutes.

• Total Estimated Burden Time: 552 hours.

• Frequency: On Occasion.

• Obligation To Respond: Required in Order to Obtain or Retain Benefits.

• Title of Information Collection: Application/License for Permanent/Temporary Export or Temporary Import of Classified Defense Articles and Related Classified Technical Data.

• OMB Control Number: 1405-0022.

• Type of Request: Extension of Currently Approved Collection.

• Originating Office: Bureau of Political-Military Affairs, Directorate of Defense Trade Controls, PM/DDTC.

• Form Number: DSP-85.

• Respondents: Business, Nonprofit Organizations, and Individuals.

• Estimated Number of Respondents: 100.

• Estimated Number of Responses: 419.

• Average Time per Response: 30 minutes.

• Total Estimated Burden Time: 210 hours.

• Frequency: On Occasion.

• Obligation To Respond: Required in Order to Obtain or Retain Benefits.

• Title of Information Collection: Application/License for Temporary Export of Unclassified Defense Articles.

• OMB Control Number: 1405-0023.

• Type of Request: Extension of Currently Approved Collection.

• Originating Office: Bureau of Political-Military Affairs, Directorate of Defense Trade Controls, PM/DDTC.

• Form Number: DSP-73.

• Respondents: Business and Nonprofit Organizations.

• Estimated Number of Respondents: 470.

• Estimated Number of Responses: 3,222.

• Average Time per Response: 1 hour.

• Total Estimated Burden Time: 3,222 hours.

• Frequency: On Occasion.

• Obligation To Respond: Required in Order to Obtain or Retain Benefits.

• Title of Information Collection: Application for Amendment to License for Export or Import of Classified or Unclassified Defense Articles and Related Classified Technical Data.

• OMB Control Number: 1405-0092.

• Type of Request: Extension of Currently Approved Collection.

• Originating Office: Bureau of Political-Military Affairs, Directorate of Defense Trade Controls, PM/DDTC.

• Form Number: DSP-6; DSP-62; DSP-74.

• Respondents: Business, Nonprofit Organizations, and Individuals.

• Estimated Number of Respondents: 591.

• Estimated Number of Responses: 3,022.

• Average Time per Response: 30 minutes.

• Total Estimated Burden Time: 1,511 hours.

• Frequency: On Occasion.

• Obligation To Respond: Required in Order to Obtain or Retain Benefits.

• Title of Information Collection: Nontransfer and Use Certificate.

• OMB Control Number: 1405-0021.

• Type of Request: Extension of Currently Approved Collection.

• Originating Office: Bureau of Political-Military Affairs, Directorate of Defense Trade Controls, PM/DDTC.

• Form Number: DSP-83.

• Respondents: Business, Nonprofit Organizations, and Individuals.

• Estimated Number of Respondents: 2,400.

• Estimated Number of Responses: 8,800.

• Average Time per Response: 1 hour.

• Total Estimated Burden Time: 8,800 hours.

• Frequency: On Occasion.

• Obligation To Respond: Required in Order to Obtain or Retain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collections

The export, temporary import, and brokering of defense articles, including technical data, and defense services are authorized by The Department of State, Directorate of Defense Trade Controls (DDTC) in accordance with the International Traffic in Arms Regulations (“ITAR,” 22 CFR parts 120-130) and section 38 of the Arms Export Control Act. Those who manufacture, broker, export, or temporarily import defense articles, including technical data, or defense services must register with the Department of State and obtain a decision from the Department as to whether it is in the interests of U.S. foreign policy and national security to approve covered transactions. Also, registered brokers must submit annual reports regarding all brokering activity that was transacted, and registered manufacturers and exporter must maintain records of defense trade activities for five years.

• 1405-0003, Application/License for Permanent Export of Unclassified Defense Articles and Related Unclassified Technical Data: In accordance with part 123 of the ITAR, any person who intends to permanently export unclassified defense articles or unclassified technical data must obtain authorization from DDTC prior to export. “Application/License for Permanent Export of Unclassified Defense Articles and Related Unclassified Technical Data” (Form DSP-5) is the licensing vehicle typically used to obtain permission for the permanent export of unclassified defense articles, including unclassified technical data, enumerated on the USML. This form is an application that, when completed and approved by PM/DDTC, Department of State, constitutes the official record and authorization for the permanent commercial export of unclassified U.S. Munitions List articles, pursuant to the Arms Export Control Act and the International Traffic in Arms Regulations.

• 1405-0013, Application/License for Temporary Import of Unclassified Defense Articles: In accordance with part 123 of the ITAR, any person who intends to temporarily import unclassified defense articles must obtain DDTC authorization prior to import. `Application/License for Temporary Import of Unclassified Defense Articles' (Form DSP-61) is the licensing vehicle typically used to obtain permission for the temporary import of unclassified defense articles covered by USML. This form is an application that, when completed and approved by PM/DDTC, Department of State, constitutes the official record and authorization for the temporary commercial import of unclassified U.S. Munitions List articles, pursuant to the Arms Export Control Act and the International Traffic in Arms Regulations.

• 1405-0022, Application/License for Permanent/Temporary Export or Temporary Import of Classified Defense Articles and Related Classified Technical Data: In accordance with part 123 of the ITAR, any person who intends to permanently export, temporarily export, or temporarily import classified defense articles, including classified technical data must first obtain DDTC authorization. “Application/License for Permanent/Temporary Export or Temporary Import of Classified Defense Articles and Related Classified Technical Data” (Form DSP-85) is used to obtain permission for the permanent export, temporary export, or temporary import of classified defense articles, including classified technical data, covered by the USML. This form is an application that, when completed and approved by PM/DDTC, Department of State, constitutes the official record and authorization for all classified commercial defense trade transactions, pursuant to the Arms Export Control Act and the International Traffic in Arms Regulations.

• 1405-0023, Application/License for Temporary Export of Unclassified Defense Articles: In accordance with part 123 of the ITAR, any person who intends to temporarily export unclassified defense articles must DDTC authorization prior to export. “Application/License for Temporary Export of Unclassified Defense Articles” (Form DSP-73) is the licensing vehicle typically used to obtain permission for the temporary export of unclassified defense articles covered by the USML. This form is an application that, when completed and approved by PM/DDTC, Department of State, constitutes the official record and authorization for the temporary commercial export of unclassified U.S. Munitions List articles, pursuant to the Arms Export Control Act and the International Traffic in Arms Regulations.

• 1405-0092, Application for Amendment to License for Export or Import of Classified or Unclassified Defense Articles and Related Classified Technical Data: In accordance with part 123 of the ITAR, any person who intends to permanently export, temporarily import, or temporarily export unclassified or classified defense articles or related technical data must obtain DDTC authorization. “Application for Amendment to License for Export or Import of Classified or Unclassified Defense Articles and Related Classified Technical Data” is used to obtain permission for certain changes to previously approved licenses. This form is an application that, when completed and approved by PM/DDTC, Department of State, constitutes the official record and authorization for all requests to amend existing defense trade authorizations made pursuant to the Arms Export Control Act and the International Traffic in Arms Regulations.

• 1405-0021, Nontransfer and Use Certificate: Pursuant to § 123.10 of the ITAR, a completed Nontransfer and Use Certificate” (Form DSP-83) must accompany an export license application to export significant military equipment and classified articles and technical data. Pursuant to § 124.10 of the ITAR, a completed “Nontransfer and Use Certificate” must be submitted with any request for a manufacturing license agreement or technical assistance agreement that relates to significant military equipment or classified defense articles and technical data. The foreign consignee (if applicable), foreign end-user, and applicant execute this form. By signing the certificate the foreign end-user certifies that they will not, except as specifically authorized by prior written approval of the Department of State, re-export, resell or otherwise dispose of the defense articles enumerated in the application (1) outside the foreign country named as the country of ultimate destination; or (2) to any other person. With respect to agreements that involve classified articles or classified technical data, an authorized representative of the foreign government must also sign the form.

Methodology: This information collection may be sent to the Directorate of Defense Trade Controls via the following methods: Electronically or mail.

Anthony M. Dearth,
Directorate of Defense Trade Controls, Bureau of Political-Military Affairs, U.S. Department of State.

[FR Doc. 2018-03776 Filed 2-23-18; 8:45 am]

BILLING CODE 4710-25-P